SECURITIES AND EXCHANGE COMMISSION

[Release No. 34-86945; File No. SR-NYSEArca-2019-12]

Self-Regulatory Organizations; NYSE Arca, Inc.; Notice of Designation of a Longer Period for Commission Action on Proceedings To Determine Whether To Approve or Disapprove a Proposed Rule Change, as Modified by Amendment No. 1, Relating to the Listing and Trading of Shares of the iShares Commodity Curve Carry Strategy ETF Under NYSE Arca Rule 8.600-E

September 12, 2019.

On March 1, 2019, NYSE Arca, Inc. (“NYSE Arca” or “Exchange”) filed with the Securities and Exchange Commission (“Commission”), pursuant to Section 19(b)(1) of the Securities Exchange Act of 1934 (“Act”) ¹ and Rule 19b-4 thereunder,² a proposed rule change to list and trade shares of the iShares Commodity Curve Carry Strategy ETF, a series of the iShares U.S. ETF Trust. The proposed rule change was published for comment in the Federal Register on March 20, 2019.³ On April 18, 2019, the Exchange filed Amendment No. 1 to the proposed rule change, which replaced and superseded the proposed rule change as originally filed.⁴

¹ 15 U.S.C. 78s(b)(1).

² 17 CFR 240.19b-4.

³ See Securities Exchange Act Release No. 85312 (March 14, 2019), 84 FR 10369.

⁴ Amendment No. 1 is available at: https://www.sec.gov/comments/sr-nysearca-2019-12/srnysearca201912-5393880-184151.pdf.

On May 1, 2019, pursuant to Section 19(b)(2) of the Act,⁵ the Commission designated a longer period within which to approve the proposed rule change, disapprove the proposed rule change, or institute proceedings to determine whether to approve or disapprove the proposed rule change.⁶ On June 18, 2019, the Commission published Amendment No. 1 for notice and comment and instituted proceedings under Section 19(b)(2)(B) of the Act ⁷ to determine whether to approve or disapprove the proposed rule change, as modified by Amendment No. 1.⁸ The Commission has received no comments on the proposed rule change.

⁵ 15 U.S.C. 78s(b)(2).

⁶ See Securities Exchange Act Release No. 85758, 84 FR 19978 (May 7, 2019).

⁷ 15 U.S.C. 78s(b)(2)(B).

⁸ See Securities Exchange Act Release No. 86136, 84 FR 29555 (June 24, 2019).

Section 19(b)(2) of the Act ⁹ provides that, after initiating disapproval proceedings, the Commission shall issue an order approving or disapproving the proposed rule change not later than 180 days after the date of publication of notice of the filing of the proposed rule change. The Commission may extend the period for issuing an order approving or disapproving the proposed rule change, however, by not more than 60 days if the Commission determines that a longer period is appropriate and publishes the reasons for such determination. The proposed rule change was published for notice and comment in the Federal Register on March 20, 2019. September 16, 2019, is 180 days from that date, and November 15, 2019, is 240 days from that date.

⁹ 15 U.S.C. 78s(b)(2).

The Commission finds it appropriate to designate a longer period within which to issue an order approving or disapproving the proposed rule change so that it has sufficient time to consider the proposed rule change, as modified by Amendment No. 1. Accordingly, pursuant to Section 19(b)(2) of the Act,¹⁰ the Commission designates November 15, 2019, as the date by which the Commission shall either approve or disapprove the proposed rule change (File No. SR-NYSEArca-2019-12), as modified by Amendment No. 1.

¹⁰ Id.

¹¹ 17 CFR 200.30-3(a)(57).

For the Commission, by the Division of Trading and Markets, pursuant to delegated authority.¹¹
Jill M. Peterson,
Assistant Secretary.

[FR Doc. 2019-20153 Filed 9-17-19; 8:45 am]

BILLING CODE 8011-01-P